DEPARTMENT OF ENERGY

Federal Energy Regulatory Commission

[Docket No. RP04-33-001]

El Paso Natural Gas Company; Notice of Compliance Filing

June 18, 2004.

Take notice that on June 15, 2004, El Paso Natural Gas Company (EPNG) tendered for filing as part of its FERC Gas Tariff, Second Revised Volume No. 1-A, the following tariff sheets to its FERC Gas Tariff, with an effective date of July 1, 2004:

Eleventh Revised Sheet No. 29

Second Revised Sheet No. 219E

First Revised Sheet No. 219F

Original Sheet Nos. 219J-219L

EPNG states that the tariff sheets implement the pro forma tariff sheets approved by the Commission providing for bounce-at-the-California border transactions that were included as part of the settlement filed in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1425 Filed 6-25-04; 8:45 am]

BILLING CODE 6717-01-P